FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 6, 2009.

A. Federal Reserve Bank of Kansas City (Todd Offerbacker, Assistant Vice President) 925 Grand Avenue, Kansas City, Missouri 64198-0001:

1. David Rossiter, Hartington, Nebraska, individually and as trustee of the Mary E. Rossiter Trust, and Carol F. Rossiter, Macon, Georgia, individually and as trustee of the Mary E. Rossiter Trust, and the Margaret R. Rossiter Trust; to retain control of Cedar Bancorp, Inc., parent of Bank of Hartington, both in Hartington, Nebraska, through the acquisition of voting shares. Also, Donald W. Rossiter, Carol F. Rossiter, Phyllis Schrempp, J. Scott Schrempp, Christine Rossiter, and Leon Schrempp, a group acting in concert, to retain control of Cedar Bancorp, Inc. parent of bank of Hartington, Nebraska.

Board of Governors of the Federal Reserve System, March 19, 2009.
Robert deV. Frierson,
Deputy Secretary of the Board.

[FR Doc. E9-6407 Filed 3-23-09; 8:45 am]

BILLING CODE 6210-01-S